UNITED STATES SENTENCING COMMISSION

Sentencing Guidelines for United States Courts

AGENCY: United States Sentencing Commission.

ACTION: Notice of proposed priorities; request for public comment.

SUMMARY: As part of its statutory authority and responsibility to analyze sentencing issues, including operation of the federal sentencing guidelines, and in accordance with Rule 5.2 of its Rules of Practice and Procedure, the Commission has identified certain tentative priorities that may be the focus of its policy development work during the amendment cycle ending May 1, 2002. The Commission envisions that much of this policy work may continue into the amendment cycle ending May 1, 2003. The Commission is seeking comment on these tentative priority issues.

DATES: Public comment should be received on or before August 3, 2001.

ADDRESSES: Send comments to: United States Sentencing Commission, One Columbus Circle, NE., Suite 2-500, South Lobby, Washington, DC 20002-8002, Attention: Public Affairs-Priorities Comment.

FOR FURTHER INFORMATION CONTACT: Michael Courlander, Public Affairs Officer, Telephone: (202) 502-4590.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p).

For the amendment cycle ending May 1, 2002, and possibly continuing into the amendment cycle ending May 1, 2003, the Commission has identified the following tentative priorities:

(1) In anticipation of the 15-year anniversary of the federal sentencing guidelines, the Commission has decided to undertake a 15-Year Study composed of a number of projects geared toward analyzing the guidelines in light of the goals of sentencing reform described in the Sentencing Reform Act and the statutory purposes of sentencing set forth in 18 U.S.C. 3553(a)(2).

(2) Possibly in conjunction with the 15-Year Study identified in paragraph (1), the Commission may begin an assessment of, and possibly consider guideline amendment proposals for, the following guideline areas: (A) Chapter Two, Part D (Offenses Involving Drugs); (B) Chapter Four (Criminal History); and (C) miscellaneous and discreet issues such as offenses involving damage to cultural heritage resources. As part of this work, the Commission may address any conflicts among the circuits related to the operation of the guidelines in these areas.

The Commission invites comment on these tentative priorities and on any other issues that interested persons believe the Commission should address during the amendment cycle ending May 1, 2002, including short- and long-term research issues. To the extent practicable, comments submitted on such issues should include the following: (1) A statement of the issue, including the scope and manner of study, particular problem areas and possible solutions, and any other matters relevant to a proposed priority; (2) citations to applicable sentencing guidelines, statutes, case law, and constitutional provisions; and (3) a direct and concise statement of why the Commission should make the issue a priority.

Authority: 28 U.S.C. 994(a), (o); USSC Rules of Practice and Procedure 5.2.

Diana E. Murphy,
Chair.

[FR Doc. 01-16714 Filed 7-2-01; 8:45 am]

BILLING CODE 2210-01-P